COMMITTEE FOR THE IMPLEMENTATION OF TEXTILE AGREEMENTS

Cancellation of Directive Denying Entry to Textiles and Textile Products Allegedly Manufactured by a Certain Factory in El Salvador

February 20, 2004.

AGENCY: Committee for the Implementation of Textile Agreements (CITA).

ACTION: Cancelling a directive to the Commissioner, Bureau of Customs and Border Protection to deny entry to shipments allegedly manufactured by a certain factory in El Salvador

EFFECTIVE DATE: February 24, 2004.

FOR FURTHER INFORMATION CONTACT: Janet Heinzen, International Trade Specialist, Office of Textiles and Apparel, U.S. Department of Commerce, (202) 482-3400.

SUPPLEMENTARY INFORMATION:

Authority: Section 204 of the Agricultural Act of 1956, as amended (7 U.S.C. 1854); Executive Order 12475 of May 9, 1984, as amended.

In a notice and letter to the Commissioner, Bureau of Customs and Border Protection, dated December 16, 2003 and published on December 22, 2003 (68 FR 71096), the Chairman of CITA directed the Bureau of Customs and Border Protection to deny entry, for two years, to textiles and textile products allegedly manufactured by Daewoo El Salvador, S.A. de C.V. The Bureau of Customs and Border Protection had informed CITA that this company was found to have been illegally transshipping, closed or unable to produce records to verify production.

Based upon information received since that time, CITA has decided to cancel that directive. Effective on February 24, 2004, the Bureau of Customs and Border Protection should not apply that directive to shipments of textiles and textile products allegedly manufactured by Daewoo El Salvador, S.A. de C.V. CITA expects that the Bureau of Customs and Border Protection will conduct additional on-site verifications of this company's production when possible.

James C. Leonard III,
Chairman, Committee for the Implementation of Textile Agreements.

Committee for the Implementation of Textile Agreements

February 20, 2004.

Commissioner of Customs,

Department of the Treasury, Washington, DC 20229.

Dear Commissioner: In the letter to the Commissioner, Bureau of Customs and Border Protection, dated December 16, 2003 (68 FR 71096), the Chairman of CITA directed the Bureau of Customs and Border Protection to deny entry to textiles and textile products allegedly manufactured by Daewoo El Salvador, S.A. de C.V. The Bureau of Customs and Border Protection had informed CITA that this company was found to have been illegally transshipping, closed or unable to produce records to verify production.

Based on information received since that time, CITA has decided to cancel that directive. Effective on February 24, 2004, the Bureau of Customs and Border Protection should not apply that directive to shipments of textiles and textile products allegedly manufactured by Daewoo El Salvador, S.A. de C.V. CITA expects that the Bureau of Customs and Border Protection will conduct additional on-site verifications of this company's production when possible.

The Committee for the Implementation of Textile Agreements has determined that this action falls within the foreign affairs exception to the rulemaking provisions of 5 U.S.C. 553(a)(1).

Sincerely,

James C. Leonard III,

Chairman, Committee for the Implementation of Textile Agreements.

[FR Doc.04-4093 Filed 2-20-04; 11:16 am]

BILLING CODE 3510-DR-S